DEPARTMENT OF THE INTERIOR

Bureau of Reclamation

[FES00-28]

Contra Costa Water District's Multi-Purpose Pipeline Project, Contra Costa County, CA

AGENCY: Bureau of Reclamation, Interior.

ACTION: Notice of availability of the Final Environmental Impact Report/Final Environmental Impact Statement (FEIR/FEIS).

SUMMARY: Pursuant to the National Environmental Policy Act (NEPA) of 1969 (as amended) and the California Environmental Quality Act (CEQA), the Bureau of Reclamation (Reclamation) and Contra Costa Water District (CCWD or District) prepared a joint FEIR/FEIS for CCWD's Multi-Purpose Pipeline (MPP) Project. The MPP Project would increase the reliability and capacity of the District's raw water delivery system. The MPP Project is being designed not only to remedy immediate canal capacity constraints but also to help meet long-term (year 2020) water demands for raw water, improve firefighting flows following an emergency or natural disaster such as an earthquake, provide an emergency water supply to municipal customers from either the east side or west side of the service area, provide alternate water conveyance capacity to facilitate temporary canal shut-downs and maintenance during low demand periods, increase operational flexibility by providing the capability of delivering water from the west side of the system or the east side of system, and minimize cost and environmental impacts to existing and new customers.

DATES: Reclamation will not make a decision on the proposed action until 30 days after this notice of release of the FEIR/FEIS. After August 10, 2000, the end of the 30-day waiting period, Reclamation will complete a Record of Decision (ROD). The ROD will state the action that will be implemented and will discuss all factors leading to the decision.

ADDRESSES: Copies of the FEIR/FEIS may be requested from Dr. Gregory Gartrell, Director of Planning, CCWD, 2300 Stanwell Drive, Concord CA 94524; telephone: (925) 688-8100 or Ms. Rossana Riggs, Administrative Secretary, CCWD, 2300 Stanwell Drive, Concord CA 94524; telephone: (925) 688-8147.

Copies of the FEIR/FEIS are available for public inspection and review. These locations are listed in the SUPPLEMENTARY INFORMATION section.

FOR FURTHER INFORMATION CONTACT: Dr. Gregory Gartrell, CCWD, telephone: (925) 688-8100; or Mr. Robert B. Eckart, Environmental Specialist, Bureau of Reclamation, 2800 Cottage Way, Sacramento CA 95825; telephone: (916) 978-5051.

SUPPLEMENTARY INFORMATION: The proposed action is to implement a Multi-Purpose Pipeline Project to increase the capacity and reliability of the District's raw water delivery system. The District currently transports raw (untreated) water through the Contra Costa Canal, which is owned by Reclamation and, under contract, is operated and maintained by the District. The canal is the District's only raw water conveyance facility; it is vulnerable to damage in an earthquake or other emergency, which could result in extended water shortages. In addition, the canal does not have adequate conveyance capacity to deliver water to meet existing plus projected future demands within the District's service area. The District proposes to increase the capacity and reliability of the raw water delivery system through the construction of the MPP, a Raw Water Pipeline, and ancillary facilities in northern Contra Costa County. The 20-mile MPP would carry treated water from the Randall-Bold Water Treatment Plant in Oakley to the District's Treated Water Service Area. With a capacity of 25 million gallons per day, the MPP would free up capacity in the canal that is currently used to meet customer demands in the Treated Water Service Area. The proposed 4-mile-long Raw Water Pipeline would be constructed to bypass an existing bottleneck along the canal.

CCWD was formed in 1936 under the authority of the State Water Code. CCWD obtains raw water primarily from Reclamation's Contra Costa Canal, an element of the Central Valley Project. CCWD's raw water comes primarily from Rock Slough and Old River, east of Oakley, the source of which is the Sacramento-San Joaquin Delta. The water is pumped the first 7 miles of the Contra Costa Canal and then flows by gravity approximately 20 miles to Mallard Reservoir and Martinez Reservoir. Mallard Reservoir, north of the City of Concord, provides raw water storage for the adjacent Bollman Water Treatment Plant, which supplies potable water to the Treated Water Service Area. Martinez Reservoir provides flow regulation for the Contra Costa Canal.

The FEIR/FEIS (consisting of the DEIR/DEIS and the Response to Comments Document) evaluates in detail two alternatives, one of which is the proposed action, two subalternatives, and a No-Action Alternative. The FEIR/FEIS considers the environmental effects of the these alternatives in all topical areas required under NEPA and CEQA. CCWD and Reclamation have identified the Canal Alignment as the preferred alternative. The MPP Project EIR/EIS focuses on the impacts of pipeline construction and operation, including impacts on land use, traffic, recreation facilities, threatened and endangered species, surface water, and ground water.

Notice of the draft environmental impact report/draft environmental impact statement (DEIR/DEIS) was published in the Federal Register on September 10, 1998 (64 FR 3974). A public hearing was held on September 22, 1998. The written comment period closed on November 25, 1998. The Response to Comments Document contains responses to all comments received and changes made to the text of the DEIR/DEIS as a result of those comments.

Locations for Inspecting/Reviewing the FEIR/FEIS

Bureau of Reclamation, Office of Policy, Room 7456, 1849 C Street, NW, Washington DC 20240; telephone: (202) 208-4662

• Bureau of Reclamation, Denver Office Library, Building 67, Room 167, at the Denver Federal Center, 6th and Kipling in Denver CO 80225; telephone: (303) 445-2072.

• Bureau of Reclamation, Public Affairs Office, 2800 Cottage Way in Sacramento CA 95825-1898; telephone: (916) 978-5100.

• Contra Costa Water District, Public Reading Room at 1331 Concord Ave in Concord CA 94524; telephone: (925) 688-8312.

• Antioch Branch Library at 501 W. 18th Street in Antioch CA 94509.

• Bay Point Branch Library at 205 Pacifica Avenue in Pittsburg CA 94565.

• Pittsburg Branch Library at 80 Power Avenue in Pittsburg CA 94565.

• Oakley Branch Library at 118 East Ruby in Oakley CA 94561.

• Concord Branch Library at 2900 Salvio in Concord CA 94519.

• Contra Costa County Public Library at 1750 Oak Park Boulevard in Pleasant Hill CA 94523.

Dated: June 28, 2000.
Kirk C. Rodgers,
Deputy Regional Director.

[FR Doc. 00-17376 Filed 7-7-00; 8:45 am]

BILLING CODE 4310-MN-P